DEPARTMENT OF ENERGY

Federal Energy Regulatory Commission

Combined Notice of Filings #1

Take notice that the Commission received the following exempt wholesale generator filings:

Docket Numbers: EG19-180-000.

Applicants: E.ON Climate & Renewables North America.

Description: Self-Certification of Exempt Wholesale Generator Status of Peyton Creek Wind Farm, LLC.

Filed Date: 9/10/19.

Accession Number: 20190910-5080.

Comments Due: 5 p.m. ET 10/1/19.

Take notice that the Commission received the following electric rate filings:

Docket Numbers: ER10-2417-003; ER13-122-003.

Applicants: ExxonMobil Baton Rouge Complex, ExxonMobil Beaumont Complex.

Description: Supplement to June 25, 2018 Triennial Market-Power Analysis for the Central Region of ExxonMobil Baton Rouge Complex, et al.

Filed Date: 3/28/19.

Accession Number: 20190328-5284.

Comments Due: 5 p.m. ET 9/20/19.

Docket Numbers: ER19-2774-000.

Applicants: Public Service Company of Colorado.

Description: § 205(d) Rate Filing: 2019-09-09 Revised LGIP to be effective 12/5/2019.

Filed Date: 9/9/19.

Accession Number: 20190909-5139.

Comments Due: 5 p.m. ET 9/30/19.

Docket Numbers: ER19-2775-000.

Applicants: Northern Indiana Public Service Company, Rosewater Wind Farm LLC.

Description: Request for Authorization to Undertake Affiliate Sales of Northern Indiana Public Service Company LLC, et al.

Filed Date: 9/9/19.

Accession Number: 20190909-5152.

Comments Due: 5 p.m. ET 9/30/19.

Docket Numbers: ER19-2776-000.

Applicants: Lincoln Clean Energy, LLC.

Description: Petition for Limited Waiver of Lincoln Clean Energy, LLC.

Filed Date: 9/9/19.

Accession Number: 20190909-5154.

Comments Due: 5 p.m. ET 9/23/19.

Docket Numbers: ER19-2777-000.

Applicants: Portland General Electric Company.

Description: Portland General Electric Company submits Average System Cost Filing for Sales of Electric Power to the Bonneville Power Administration, FY 2020-2021.

Filed Date: 9/10/19.

Accession Number: 20190910-5078.

Comments Due: 5 p.m. ET 10/1/19.

Docket Numbers: ER19-2778-000.

Applicants: Nevada Power Company.

Description: § 205(d) Rate Filing: Service Agreement No. 13-00018 Amended NITSA to be effective 9/10/2019.

Filed Date: 9/10/19.

Accession Number: 20190910-5105.

Comments Due: 5 p.m. ET 10/1/19.

Docket Numbers: ER19-2779-000.

Applicants: Nevada Power Company.

Description: § 205(d) Rate Filing: Service Agreement No. 13-00019 Amended NITSA to be effective 11/10/2019.

Filed Date: 9/10/19.

Accession Number: 20190910-5108.

Comments Due: 5 p.m. ET 10/1/19.

Docket Numbers: ER19-2780-000.

Applicants: Nevada Power Company.

Description: § 205(d) Rate Filing: Service Agreement No. 13-00020 Amended NITSA to be effective 11/10/2019.

Filed Date: 9/10/19.

Accession Number: 20190910-5111.

Comments Due: 5 p.m. ET 10/1/19

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2019.
Nathaniel J. Davis, Sr.,
Deputy Secretary.

[FR Doc. 2019-20060 Filed 9-16-19; 8:45 am]

BILLING CODE 6717-01-P